DEPARTMENT OF JUSTICE

Notice of Lodging of Consent Decree Under The Clean Air Act, the Comprehensive Environmental Response, Compensation and Liability Act, and the Emergency Planning and Community Right-To-Know Act

Notice is hereby given that on June 4, 2012, a proposed Consent Decree (“Consent Decree”) in United States v. INEOS USA LLC, Civil Action No. 3:12-cv-01404, was lodged with the United States District Court for the Northern District of Ohio.

In this action, the United States sought injunctive relief and civil penalties from INEOS USA LLC (“INEOS”) for alleged violations of Section 112 of the Clean Air Act (“CAA”), 42 U.S.C. § 7412; the federally enforceable Ohio State Implementation Plan; INEOS's CAA Permit-to-Install Numbered 03-9227; INEOS's CAA Title V Permit No. 03-02-02-0015; Section 103(a) of the Comprehensive Environmental Response, Compensation and Liability Act (“CERCLA”), 42 U.S.C. 9603(a); and Sections 304(a) and (b) of the Emergency Planning and Community Right-To-Know Act (“EPCRA”), 42 U.S.C. 11004(a) and (b). The alleged violations occurred at INEOS' chemical manufacturing plant in Lima, Ohio.

Under the Consent Decree, INEOS is required to undertake the following: (i) Implement an enhanced leak detection and repair program; (ii) improve training, reporting and recordkeeping on bypassing a control device; and (iii) undertake a root cause analysis of CERCLA/EPCRA reportable quantity releases; review and update CERCLA/EPRCA emergency notification training; and perform a CERCLA/EPCRA audit. INEOS also will pay a civil penalty of $1,150,000.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC, 20044-7611, and should refer to United States v. INEOS USA LLC, D. J. Ref. No. 90-5-2-1-08875/1.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or emailing a request to “Consent Decree Copy” (EESCDCopy.ENRD@usdoj.gov), fax number (202) 514-0097; phone confirmation number (202) 514-5271. If requesting a copy from the Consent Decree Library by mail, please enclose a check in the amount of $ 18.00 (25 cents per page reproduction cost) payable to the U.S. Treasury or, if requesting by email or fax, forward a check in that amount to the Consent Decree Library at the address given above.

Maureen M. Katz,
Assistant Chief, Environmental Enforcement Section, Environment and Natural Resources Division.

[FR Doc. 2012-13928 Filed 6-7-12; 8:45 am]

BILLING CODE 4410-15-P